FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 012108-007.

Agreement Name: World Liner Data Agreement.

Parties: ANL Singapore Pte. Ltd.; APL Co. Pte. Ltd.; CMA CGM, S.A.; COSCO SHIPPING Lines Co., Ltd.; Evergreen Line Joint Service Agreement; Hamburg Sud; Hapag-Lloyd AG; Hyundai Merchant Marine Co., Ltd.; Independent Container Line, Ltd.; Maersk Line A/S; Mediterranean Shipping Company S.A.; Nile Dutch Africa Line B.V.; Orient Overseas Container Line Limited; and Zim Integrated Shipping Services Ltd.

Filing Party: Wayne Rohde; Cozen O'Connor.

Synopsis: The amendment adds APL Co. Pte. Ltd. and ANL Singapore Pte. Ltd. as parties to the Agreement and deletes United Arab Shipping Company S.A.G. as a party to the Agreement.

Proposed Effective Date: 9/8/2019.

Location: https://www2.fmc.gov/FMC.Agreements.Web/Public/AgreementHistory/362.

Dated: July 26, 2019.
Rachel Dickon,
Secretary.

[FR Doc. 2019-16344 Filed 7-31-19; 8:45 am]

BILLING CODE 6731-AA-P